DEPARTMENT OF AGRICULTURE

Farm Service Agency

7 CFR Part 760

[FSA-2025-0005]

RIN 0560-AI72

Emergency Livestock Relief Program (ELRP) 2023 and 2024 Flood and Wildfire (FW); Approval of Information Collection Request

AGENCY: Farm Service Agency, U.S. Department of Agriculture (USDA).

ACTION: Final rule; notice of approval of Information Collection Request (ICR).

SUMMARY: The final rule entitled Emergency Livestock Relief Program (ELRP) 2023 and 2024 Flood and Wildfire (FW) was published on September 15, 2025. The Office of Management and Budget cleared the associated information collection requirements (ICR) on September 12, 2025. This document announces approval of the ICR.

DATES: The ICR associated with the final rule published in the Federal Register on September 15, 2025, at 90 FR 44299, was approved by OMB on September 12, 2025, under OMB Control Number 0503-0028.

FOR FURTHER INFORMATION CONTACT: Kathy Sayers; telephone: (202) 720-6870; email: Kathy.Sayers@usda.gov. Individuals with disabilities who require alternative means for communication should contact the USDA Target Center at (202) 720-2600 (voice and text telephone (TTY mode)) or dial 711 for Telecommunications Relay Service (both voice and text telephone users can initiate this call from any telephone).

SUPPLEMENTARY INFORMATION: The information collection request has been approved by OMB under the control number of 0503-0028; Expiration Date: 10/31/2027. FSA will issue payments to producers using the following forms: CCC-901, CCC-902E, CCC-902I, AD-1026, and FSA-510. In addition, for the information collection under 0503-0028, the agency is seeking to use FSA-970 with this data collection. The AD-1026 is exempt. The FSA-970 is the only new data collection activity associated with this request. The total annual burden hours for this information collection is 240,665.

William Beam,
Administrator, Farm Service Agency.

[FR Doc. 2025-18693 Filed 9-25-25; 8:45 am]

BILLING CODE 3410-E2-P